NUCLEAR REGULATORY COMMISSION

Sunshine Act Meeting

Agency Holding The Meeting: Nuclear Regulatory Commission.

Date: Weeks of June 7, 14, 21, 28, July 5, 2004.

Place: Commissioners' Conference Room, 11555 Rockville Pike, Rockville, Maryland.

Status: Public and Closed.

Matters To Be Considered:

Week of June 7, 2004

Thursday, June 10, 2004

1:30 p.m. Discussion of Security Issues (Closed—Ex. 1)

Week of June 14, 2004—Tentative

There are no meetings scheduled for the Week of June 14, 2004.

Week of June 21, 2004—Tentative

There are no meetings scheduled for the Week of June 21, 2004.

Week of June 28, 2004—Tentative

There are no meetings scheduled for the Week of June 28, 2004.

Week of July 5, 2004—Tentative

There are no meetings scheduled for the Week of July 5, 2004.

Week of July 12, 2004—Tentative

Tuesday, July 13, 2004

2:15 p.m. Discussion of Security Issues (Closed—Ex. 1)

*The schedule for Commission meetings is subject to change on short notice: To verify the status of meetings call (recording)—(301) 415-1292. Contact person for more information: Dave Gamberoni, (301) 415-1651.

* * * * *

The NRC Commission Meeting Schedule can be found on the Internet at: http://www.nrc.gov/what-we-do/policy-making/schedule.html

* * * * *

The NRC provides reasonable accommodation to individuals with disabilities where appropriate. If you need a reasonable accommodation to participate in this meeting, or need this meeting notice or the transcript or other information from the meeting in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 3, 2004.
Dave Gamberoni,
Office of the Secretary.

[FR Doc. 04-13018 Filed 6-4-04; 11:31 am]

BILLING CODE 7590-01-M